ENVIRONMENTAL PROTECTION AGENCY

40 CFR Parts 52 and 81

[MN72-7297b; FRL-7251-4]

Approval and Promulgation of Implementation Plans; Minnesota, and Designation of Areas for Air Quality Planning Purposes; Minnesota

AGENCY: Environmental Protection Agency (EPA).

ACTION: Proposed rule.

SUMMARY: We are proposing to approve the State of Minnesota's request to redesignate the Saint Paul, Ramsey County, Minnesota primary particulate matter nonattainment area to attainment of the National Ambient Air Quality Standards (NAAQS) for particulate matter with an aerodynamic diameter less than or equal to a nominal 10 micrometers (PM). In conjunction with this action, EPA is also proposing to approve the maintenance plan for the Ramsey County PM nonattainment area, which was submitted to ensure that attainment of the NAAQS will be maintained. The Minnesota Pollution Control Agency submitted the redesignation request and maintenance plan on June 20, 2002. In the final rules section of this Federal Register, we are approving these actions as a direct final rule without prior proposal, because we view this as a noncontroversial revision amendment and anticipate no adverse comments. A detailed rationale for the approval is set forth in the direct final rule. If no adverse written comments are received in response to the direct final rule, no further activity is contemplated in relation to this proposed rule. If we receive adverse written comments, the direct final rule will be withdrawn and all public comments received will be addressed in a subsequent final rule based on this proposed rule. We will not institute a second comment period on this action. Any parties interested in commenting on this action should do so at this time.

DATES: Written comments must be received on or before August 26, 2002.

ADDRESSES: Written comments should be sent to: Carlton T. Nash, Chief, Regulation Development Section, Air Programs Branch (AR-18J), EPA Region 5, 77 West Jackson Boulevard, Chicago, Illinois 60604-3590.

FOR FURTHER INFORMATION CONTACT: Christos Panos, Environmental Engineer, Regulation Development Section, Air Programs Branch (AR-18J), EPA Region 5, 77 West Jackson Boulevard, Chicago, Illinois 60604, (312) 353-8328.

SUPPLEMENTARY INFORMATION: For additional information, see the Direct final rule which is located in the Rules section of this Federal Register. Copies of the request and the EPA's analysis are available for inspection at the above address. (Please telephone Christos Panos at (312) 353-8328 before visiting the Region 5 Office.)

Dated: July 12, 2002.
Bharat Mathur,
Acting Regional Administrator, Region 5.

[FR Doc. 02-18865 Filed 7-25-02; 8:45 am]

BILLING CODE 6560-50-P